OFFICE OF THE UNITED STATES TRADE REPRESENTATIVE

Generalized System of Preferences (GSP): Notice Regarding the 2001 and 2002 Annual Reviews

AGENCY: Office of the United States Trade Representative.

ACTION: Notice.

SUMMARY: The Office of the United States Trade Representative (USTR) received petitions in 2001 and 2002 to modify the list of products that are eligible for duty-free treatment under the GSP program, and to modify the GSP status of certain GSP beneficiary developing countries because of country practices. This notice announces the combined product petitions from both 2001 and 2002 that are accepted for review in the 2002 GSP Annual Review, and sets forth the schedule for comment and public hearing on these petitions, for requesting participation in the hearing, and for submitting pre-hearing and post-hearing briefs. The list of country practice petitions accepted for review will be announced in the Federal Register at a later date.

FOR FURTHER INFORMATION CONTACT: Contact the GSP Subcommittee of the Trade Policy Staff Committee, Office of the United States Trade Representative, 1724 F Street, NW., Room F-220, Washington, DC 20508. The telephone number is (202) 395-6971 and the facsimile number is (202) 395-9481.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

In a Federal Register notice dated April 13, 2001, USTR initiated the 2001 GSP Annual Review and announced a deadline of June 13, 2001, for the filing of petitions (66 FR 19278). In a Federal Register notice dated November 1, 2002, USTR initiated the 2002 GSP Annual Review and announced a deadline of December 2, 2002, for the filing of petitions (67 FR 66699). The product petitions received requested changes in the eligibility of products by adding or removing products, or by waiving the “competitive need limitations” (CNLs) for a country for eligible articles. Authorization for granting CNL waivers is set forth in section 503(d) of the 1974 Act (19 U.S.C. 2463(d)).

The GSP program expired on October 1, 2001, and was not reauthorized until August 6, 2002. Consequently, the announcement of which petitions were to be accepted for the 2001 Annual GSP Review was not made, except for the announcement in the August 28, 2002 Federal Register of those petitions accepted for the Special Three Country Review for Argentina, the Philippines and Turkey. The outstanding 2001 petitions have been merged into the 2002 GSP Annual Review.

The interagency GSP Subcommittee of the Trade Policy Staff Committee (TPSC) has reviewed the product petitions, and the TPSC has decided to initiate a full review of 47 of them. Annex II to this notice sets forth the case number, Harmonized Tariff Schedule of the United States (HTS) subheading number, brief description of the product (see the HTS for an authoritative description available on the U.S. International Trade Commission (USITC) Web site http://www.usitc.gov/taffairs.htm), the change requested, and the petitioner for each petition included in this review. Acceptance of a petition for review does not indicate any opinion with respect to disposition on the merits of the petition. Acceptance indicates only that the listed petitions have been found eligible for review by the TPSC and that such review will take place.

Modifications to the list of articles eligible for duty-free treatment under the GSP resulting from the 2002 Annual Review will be announced on or about June 30, 2003, in the Federal Register, and any changes will take effect on the effective date to be announced.

Opportunities for Public Comment and Inspection of Comments

The GSP Subcommittee of the TPSC invites comments in support of or in opposition to any petition which is included in this Annual Review. Submissions should comply with 15 CFR part 2007, including sections 2007.0 and 2007.1, except as modified below. All submissions should identify the subject article(s) in terms of the case number and HTS subheading number as shown in Annex II. The GSP regulations (15 CFR part 2007) provide the schedule of dates for conducting an annual review unless otherwise specified in a Federal Register notice. The revised schedule for public comment and hearings is contained in Annex I.

Requirements for Submissions

In order to facilitate prompt processing of submissions, USTR strongly urges and prefers electronic e-mail submissions in response to this notice. Hand delivered submissions will not be accepted. These submissions should be single copy transmissions in English with the total submission not to exceed 50 single-spaced pages. E-mail submissions should use the following subject line: “2002 GSP Annual Review” followed by the Case Number and HTS subheading number found in the Annex II (for example, 2002-47 9405.50.40) and, as appropriate “Written Comments”, “Notice of Intent to Testify”, “Pre-hearing brief”, “Post-hearing brief” or “Comments on USITC Advice”. (For example, an e-mail subject line might read “2002-47 9405.50.40 Written Comments”.) Documents, in English, must be submitted as either WordPerfect (.WPD), MSWord (.DOC) , or text (.TXT) files. Documents should not be submitted as electronic image files or contain imbedded images (for example, “.JPG”, “PDF”, “.BMP”, or “.GIF”) as these type files are generally excessively large. E-mail submissions containing such files may not be accepted. Supporting documentation submitted as spreadsheets are acceptable as Quattro Pro or Excel suitable for printing only on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “Business Confidential” at the top and bottom of each and every page of the document. The public version which does not contain business confidential information must also be clearly marked at the top and bottom of each and every page (either “Public Version” or “Non-Confidential”).

For any document containing business confidential information submitted as an electronic attached file to an e-mail transmission, the file name of the business confidential version should begin with the characters “BC-”, and the file name of the public version should begin with the characters “P-”. The “P-” or “BC-” should be followed by the name of the party (government, company, union, association, etc.) which is making the submission. E-mail submissions should not include separate cover letters or messages in the message area of the e-mail; information that might appear in any cover letter should be included directly in the attached file containing the submission itself. The e-mail address for these submissions is FR0052@USTR.GOV. Documents not submitted in accordance with these instructions might not be considered in this review.

Information submitted will be subject to public inspection shortly after the relevant due dates by appointment with the staff of the USTR public reading room, except for information submitted that is granted “business confidential” status pursuant to 15 CFR 2003.6 and other qualifying information submitted in confidence pursuant to 15 CFR 2007.7. Public versions of all documents relating to this review will be available for review after the relevant due date by appointment in the USTR public reading room, 1724 F Street NW., Washington, DC. Appointments may be made from 9:30 a.m. to noon and 1 p.m. to 4 p.m., Monday through Friday, by calling (202) 395-6186.

Notice of Public Hearings

Hearings will be held by the GSP Subcommittee of the TPSC on April 10 and 11, 2003, beginning at 10 a.m. at the U.S. International Trade Commission, Main Hearing Room, 500 E Street, SW., Washington, DC 20436. The hearings will be open to the public and a transcript of the hearings will be made available for public inspection or can be purchased from the reporting company. No electronic media coverage will be allowed.

All interested parties wishing to make an oral presentation at the hearings must submit the name, address, telephone number, and facsimile number and email address, if available, of the witness(es) representing their organization to the Chairman of the GSP Subcommittee by 5 p.m., March 24, 2003. Requests to present oral testimony in connection with the public hearings must be accompanied by a written brief or statement, in English, and also must be received by 5 p.m., March 24, 2003. Oral testimony before the GSP Subcommittee will be limited to five-minute presentations that summarize or supplement information contained in briefs or statements submitted for the record. Post-hearing briefs or statements will be accepted if they conform with the regulations cited above and are submitted, in English, by 5 p.m., April 28, 2003. Parties not wishing to appear at the public hearings may submit post-hearing written briefs or statements, in English, by 5 p.m., April 28, 2003.

In accordance with sections 503(a)(1)(A), 503(e) and 131(a) of the 1974 Act and authority delegated by the President, the U.S. Trade Representative has requested that the USITC, pursuant to section 332(g) of the Tariff Act of 1930, provide its advice with respect to the probable economic effect on United States industries producing like or directly competitive articles and on consumers of the elimination of U.S. import duties for all beneficiary developing countries, and, with respect to certain articles, the effect of the elimination of United States import duties for least-developed beneficiary developing countries. Comments by interested persons on the USITC Report prepared as part of the product review should be submitted by 5 p.m., June 9, 2003.

Steven Falken,
Executive Director for GSP, Chairman, GSP Subcommittee of the Trade Policy Staff Committee.

BILLING CODE 3901-01-P

[FR Doc. 03-5648 Filed 3-10-03; 8:45 am]

BILLING CODE 3901-01-C